ENVIRONMENTAL PROTECTION AGENCY

[Petition IV-2005-1; FRL-8255-8]

Clean Air Act Operating Permit Program; Petition for Objection to State Operating Permit for Tennessee Valley Authority—Paradise Fossil Plant; Drakesboro (Muhlenberg County), KY

AGENCY: Environmental Protection Agency (EPA).

ACTION: Notice of final order on petition to object to a state operating permit.

SUMMARY: Pursuant to Clean Air Act Section 505(b)(2) and 40 CFR 70.8(d), the EPA Administrator signed an Order, dated October 20, 2006, denying a petition to object to a state operating permit proposed by the Kentucky Division for Air Quality (KDAQ) for Tennessee Valley Authority (TVA) Paradise Fossil Plant (TVA Paradise) located in Drakesboro, Muhlenberg County, Kentucky. This Order constitutes final action on the petition submitted by Preston Forsyth, the Center for Biological Diversity, Kentucky Heartwood, and Hillary Lambert (Petitioners). Pursuant to section 505(b)(2) of the Clean Air Act (the Act) any person may seek judicial review of the Order in the United States Court of Appeals for the appropriate circuit within 60 days of this notice under section 307 of the Act.

ADDRESSES: Copies of the final Order, the petition, and all pertinent information relating thereto are on file at the following location: EPA Region 4, Air, Pesticides and Toxics Management Division, 61 Forsyth Street, SW., Atlanta, Georgia 30303-8960. The final Order is also available electronically at the following address: http://www.epa.gov/region07/programs/artd/air/title5/petitiondb/petitions/ tvaparadise_decision2005.pdf

FOR FURTHER INFORMATION CONTACT: Art Hofmeister, Air Permits Section, EPA Region 4, at (404) 562-9115 or hofmeister.art@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioners submitted a petition on April 21, 2005, requesting that EPA object to a state title V operating permit proposed by KDAQ for TVA Paradise. This action followed an objection (to the proposed permit) issued by EPA on February 18, 2005. On August 18, 2006, at the source's request, KDAQ subsequently withdrew the proposed permit. On October 20, 2006, the Administrator issued an Order denying the petition on the basis of it being moot since a permit (about which EPA could further object) no longer existed. The Order further explains EPA's rationale for denying the petition.

Dated: December 5, 2006.
A. Stanley Meiburg,
Deputy Regional Administrator, Region 4.

[FR Doc. E6-21289 Filed 12-13-06; 8:45 am]

BILLING CODE 6560-50-P